NUCLEAR REGULATORY COMMISSION

Advisory Committee on Reactor Safeguards Meeting of the ACRS Subcommittee on Plant Operations and Fire Protection; Notice of Meeting

The ACRS Subcommittee on Plant Operations and Fire Protection will hold a meeting on August 18, 2009, in the Commission Hearing Room, 11555 Rockville Pike, Rockville, Maryland.

The entire meeting will be open to public attendance.

The agenda for the subject meeting shall be as follows:

Tuesday, August 18, 2009, 8:30 a.m.-12 p.m.

The Subcommittee will review draft final Revision 2 to Regulatory Guide 1.189, “Fire Protection for Nuclear Power Plants.” The Subcommittee will hear presentations by and hold discussions with representatives of the NRC staff, the Nuclear Energy Institute, and other interested persons regarding these matters. The Subcommittee will gather information, analyze relevant issues and facts, and formulate proposed positions and actions, as appropriate, for deliberation by the full Committee.

Members of the public desiring to provide oral statements and/or written comments should notify the Designated Federal Official, Peter Wen (telephone: 301-415-2832, e-mail: Peter.Wen@nrc.gov), five days prior to the meeting, if possible, so that appropriate arrangements can be made. Thirty-five hard copies of each presentation or handout should be provided to the Designated Federal Official 30 minutes before the meeting. In addition, one electronic copy of each presentation should be e-mailed to the Designated Federal Official 1 day before the meeting. If an electronic copy cannot be provided within this timeframe, presenters should provide the Designated Federal Official with a CD containing each presentation at least 30 minutes before the meeting. Electronic recordings will be permitted only during those portions of the meeting that are open to the public. Detailed procedures for the conduct of and participation in ACRS meetings were published in the Federal Register on October 6, 2008, (73FR 58268-58269).

Further information regarding this meeting can be obtained by contacting the Designated Federal Official (DFO) between 7:30 a.m. and 5:15 p.m. (ET). Persons planning to attend this meeting are urged to contact the DFO at least two working days prior to the meeting to be advised of any potential changes to the agenda.

Dated: July 15, 2009.
Cayetano Santos,
Chief, Reactor Safety Branch A, Advisory Committee on Reactor Safeguards.

[FR Doc. E9-17289 Filed 7-20-09; 8:45 am]

BILLING CODE 7590-01-P